DEPARTMENT OF HEALTH AND HUMAN SERVICES

National Institutes of Health

Center for Scientific Review; Amended Notice of Meeting

Notice is hereby given of a change in the meeting of the Center for Scientific Review Special Emphasis Panel, June 1, 2007, 11 a.m. to June 1, 2007, 1 p.m., National Institutes of Health, 6701 Rockledge Drive, Bethesda, MD, 20892 which was published in the Federal Register on May 17, 2007, 72 FR 27828-27830.

The meeting has been changed to a virtual meeting starting June 7, 2007, 11 a.m. to June 9, 2007, 11 p.m. The meeting location remains the same. The meeting is closed to the public.

Dated: May 21, 2007.
Jennifer Spaeth,
Director, Office of Federal Advisory Committee Policy.

[FR Doc. 07-2624 Filed 5-25-07; 8:45 am]

BILLING CODE 4140-01-M